DEPARTMENT OF COMMERCE

National Oceanic and Atmospheric Administration

[RTID 0648-XB491]

Fisheries of the U.S. Caribbean; Southeast Data, Assessment, and Review (SEDAR); Public Meeting; Cancellation

AGENCY: National Marine Fisheries Service (NMFS), National Oceanic and Atmospheric Administration (NOAA), Commerce.

ACTION: Notice of cancellation of SEDAR 80 Life History Topical Working Group Webinar I for U.S. Caribbean queen triggerfish.

SUMMARY: The SEDAR 80 stock assessment of U.S. Caribbean queen triggerfish will consist of a series of data webinars.

DATES: The SEDAR 80 Life History Topical Working Group Webinar I was scheduled be held from 10 a.m. to 12 p.m. Eastern, November 19, 2021.

ADDRESSES:

Meeting address: The meeting was to be held via webinar.

SEDAR address: 4055 Faber Place Drive, Suite 201, North Charleston, SC 29405.

FOR FURTHER INFORMATION CONTACT: Julie A. Neer, SEDAR Coordinator; (843) 571-4366; email: Julie.neer@safmc.net.

SUPPLEMENTARY INFORMATION: The meeting notice published on November 1, 2021 (86 FR 60220). This notice announces that the meeting is cancelled and will be rescheduled at a later date.

Authority: 16 U.S.C. 1801 et seq.

Dated: November 8, 2021.
Tracey L. Thompson,
Acting Deputy Director, Office of Sustainable Fisheries, National Marine Fisheries Service.

[FR Doc. 2021-24715 Filed 11-10-21; 8:45 am]

BILLING CODE 3510-22-P